DEPARTMENT OF COMMERCE

International Trade Administration

[A-570-992; A-560-826]

Monosodium Glutamate From the People's Republic of China and the Republic of Indonesia: Postponement of Preliminary Determinations in the Antidumping Duty Investigations

AGENCY: Enforcement and Compliance, formerly Import Administration, International Trade Administration, Department of Commerce.

FOR FURTHER INFORMATION CONTACT: Jun Jack Zhao at (202) 482-1396 (the People's Republic of China (PRC)); Nicholas Czajkowski at (202) 482-1395 (the Republic of Indonesia (Indonesia)), AD/CVD Operations, Enforcement and Compliance, International Trade Administration, U.S. Department of Commerce, 14th Street and Constitution Avenue NW., Washington, DC 20230.

SUPPLEMENTARY INFORMATION:

Background

On October 31, 2013, the Department of Commerce (the Department) initiated the antidumping investigations on monosodium glutamate from Indonesia and the PRC.¹ The notice of initiation stated that, unless postponed, the Department would issue its preliminary determinations for these investigations no later than 140 days after the date of the initiation in accordance with section 773(b)(1)(A) of the Tariff Act of 1930, as amended (the Act), and 19 CFR 351.205(b)(1). The preliminary determinations currently are due no later than March 12, 2014.

¹ See Monosodium Glutamate from the People's Republic of China, and the Republic of Indonesia: Initiation of Antidumping Duty Investigations, 78 FR 65278 (October 31, 2013).

Postponement of the Preliminary Determinations

Sections 733(c)(1)(B)(i) and (ii) of the Act permit the Department to postpone the time limits for the preliminary determination if it concludes that the parties concerned are cooperating and determines that the case is extraordinarily complicated by reason of the number and complexity of the transactions to be investigated or adjustments to be considered, the novelty of issues presented, or the number of firms whose activities must be investigated, and additional time is necessary to make the preliminary determination. The Department may postpone making the preliminary determination under section 733(c)(1)(B) of the Act until no later than the 190th day after the date on which the administering authority initiates an investigation under section 732(c) of the Act, or an investigation is initiated under section 732(a) of the Act.

The Department has determined that the parties involved in these proceedings are cooperating, and that the investigations are extraordinarily complicated. Additional time is required to analyze the questionnaire responses and number of companies affiliated with respondents. Therefore, in accordance with section 733(c)(1)(B) of the Act and 19 CFR 351.205(f)(1), we are postponing the time period for the preliminary determinations of these investigations by 50 days to May 1, 2014. In accordance with section 735(a)(1) of the Act, the deadline for the final determinations of these investigations will continue to be 75 days after the date of the preliminary determinations, unless postponed at a later date.

This notice is issued and published pursuant to section 733(c)(2) of the Act and 19 CFR 351.205(f)(1).

Dated: January 29, 2014.
Paul Piquado,
Assistant Secretary for Enforcement and Compliance.

[FR Doc. 2014-02442 Filed 2-4-14; 8:45 am]

BILLING CODE 3510-DS-P